DEPARTMENT OF THE TREASURY

United States Mint

Pricing for the 50th Anniversary Kennedy Half-Dollar Silver Coin Collection and 50th Anniversary Kennedy Half-Dollar Uncirculated Coin Set

AGENCY: United States Mint, Department of the Treasury.

ACTION: Notice.

SUMMARY: The United States Mint is announcing a price of $99.95 for the 50th Anniversary Kennedy Half-Dollar Silver Coin Collection and a price of $9.95 for the 50th Anniversary Kennedy Half-Dollar Uncirculated Coin Set.

FOR FURTHER INFORMATION CONTACT: Marc Landry, Acting Associate Director for Sales and Marketing; United States Mint; 801 9th Street NW., Washington, DC 20220; or call 202-354-7500.

Authority: 31 U.S.C. 5111, 5112 & 9701.

Dated: June 17, 2014.
Richard A. Peterson,
Deputy Director, United States Mint.

[FR Doc. 2014-14587 Filed 6-20-14; 8:45 am]

BILLING CODE P